DEPARTMENT OF AGRICULTURE

Forest Service

Directive Publication Notice

AGENCY: Forest Service, USDA.

ACTION: Notice.

SUMMARY: The USDA Forest Service provides direction to employees through issuances in its Directive System, comprised of the Forest Service Manual and Forest Service Handbooks. The Agency must provide public notice of and opportunity to comment on any directives that formulate standards, criteria, or guidelines applicable to Forest Service programs. Once per quarter, the Agency provides advance notice of proposed and interim directives that will be made available for public comment during the next 3 months and notice of final directives issued in the last 3 months. No directives are planned for publication for public comment between July 1, 2021, and September 30, 2021.

DATES: This notice identifies proposed and interim directives that were published for public comment since January 1, 2020, and final directives that have been issued since April 1, 2021.

ADDRESSES: Questions or comments may be provided by email to SM.FS.Directives@usda.gov or in writing to 201 14th Street SW, Washington, DC 20250, Attn: Directives and Regulations staff, Mail 1132.

FOR FURTHER INFORMATION CONTACT: Ann Goode at 202-740-6286 or ann.goode@usda.gov. Individuals who use telecommunication devices for the hearing-impaired may call the Federal Relay Service at 800-877-8339 between 8:00 a.m. and 8:00 p.m., Eastern Daylight Time, Monday through Friday. You may sign up to receive email alerts at https://www.fs.usda.gov/about-agency/regulations-policies.

SUPPLEMENTARY INFORMATION:

Proposed or Interim Directives

Consistent with 16 U.S.C. 1612(a) and 36 CFR part 216, Public Notice and Comment for Standards, Criteria and Guidance Applicable to Forest Service Programs, the Forest Service publishes for public notice and comment Agency directives that formulate standards, criteria, or guidelines applicable to Forest Service programs. Agency procedures for providing public notice and opportunity to comment are specified in Forest Service Handbook (FSH) 1109.12, Chapter 30, Providing Public Notice and Opportunity to Comment on Directives.

The Forest Service has no proposed or interim directives planned for publication for public comment from July 1, 2021 to September 30, 2021.

Previously Published Directives That Have Not Been Finalized

The following proposed or interim directives have been published for public comment but not yet finalized:

1. Proposed Forest Service Manual (FSM) 2200, Rangeland Management, Chapters Zero Code; 2210, Rangeland Management Planning; 2220, Management of Rangelands (Reserved); 2230, Grazing Permit System; 2240, Rangeland Improvements; 2250, Rangeland Management Cooperation; and 2270, Information Management and Reports; Forest Service Handbook 2209.13, Grazing Permit Administration Handbook, Chapters 10, Term Grazing Permits; 20, Grazing Agreements; 30, Temporary Grazing and Livestock Use Permits; 40, Livestock Use Permits; 50, Tribal Treaty Authorizations and Special Use Permits; 60, Records; 70, Compensation for Permittee Interests in Rangeland Improvements; 80, Grazing Fees; and 90, Rangeland Management Decision Making; and Forest Service Handbook 2209.16, Allotment Management Handbook, Chapter 10, Allotment Management and Administration.

2. Interim Forest Service Manual 2719, Special Use Authorizations Involving Storage and Use of Explosives and Magazine Security, and Forest Service Handbook 2709.11, Special Uses Handbook, Chapter 50, Standard Forms and Supplemental Clauses.

3. Forest Service Manual 7700, Travel Management, Chapters Zero and 10, Travel Planning.

4. Forest Service Manual 2400, Timber Management, Chapters Zero, 2430, Commercial Timber Sales; 2440, Designating, Cruising, Scaling, and Accountability; 2450, Timber Sale Contract Administration; and 2460, Uses of Timber Other Than Commercial Timber Sales; Forest Service Handbook 2409.15, Timber Sale Administration, Chapters Zero, 10, Fundamentals of Timber Sale Contracting; 30, Change in Status of Contracts; 50, Specified Transportation Facilities; and 70, Contract Claims and Disputes; Forest Service Handbook 2409.18a, Timber Sale Debarment and Suspension Procedures, Chapters Zero, 10, Non-procurement Debarment and Suspension; and 20, Debarment and Export Violations.

5. Forest Service Manual 3800, Landscape Scale Restoration Program.

6. Forest Service Manual 2700, Special Uses Management, Chapter 40, Vegetation Management Pilot Projects, and Forest Service Handbook 2709.11, Special Uses Handbook, Chapter 50, Standard Forms and Supplemental Clauses.

7. Forest Service Handbook 2709.11, Special Uses Handbook, Chapter 80, Operating Plans and Agreements for Powerline Facilities.

8. Forest Service Manual 2400, Timber Management, Chapter 2420, Timber Appraisal; Forest Service Handbook 2409.19, Renewable Resources Handbook, Chapters 10, Knutson-Vandenberg Sale Area Program Management Handbook; 20, Knutson-Vandenberg Forest and Regional Program Management; 60, Stewardship Contracting; and 80, Good Neighbor Authority.

9. Forest Service Manual 1820, Public Lands Corps and Resource Assistants Program.

10. Forest Service Handbook 5509.11, Chapter 20, Section 21, Small Tracts Act Adjustments.

11. Forest Service Manual 2720, Alaska Region Supplement, Section 2721.53, Outfitting and Guiding Service.

Directives That Have Been Issued Since April 1, 2021

1. Closure of National Forest System Lands to Hunting, Fishing, or Recreational Shooting, Forest Service Handbook 5309.11, Law Enforcement Handbook, Chapter 30, Violations, Section 34. This directive implements, in part, the John D. Dingell Jr. Conservation, Management, and Recreation Act to facilitate access to hunting, fishing and recreational shooting on National Forest System lands. These updates include a greater role for public participation, codification of the national policy that federal lands are open unless closed to hunting, fishing or recreational shooting, and establish a process for temporarily or permanently closing areas on National Forest System lands to hunting, fishing, or recreational shooting. The revisions also include a new definition for emergency closures, which are exempt from the procedural requirements for hunting, fishing, and recreational shooting closure orders. The 30-day comment period for this directive began August 17, 2021, and closed September 16, 2020. Thirty public comments were received, which can be viewed at https://cara.ecosystem-management.org/Public/ReadingRoom?project=ORMS-2312. The final directive and a document summarizing public comments and the agency's responses are included in the list of documents below. The final directive was issued April 8, 2021 and can be viewed at https://www.fs.fed.us/im/directives/fsh/5309.11/wo_5309.11_30_Amend-2021-1%20-%20Violations.doc.

2. Providing Notice and Opportunity to Comment on Directives, Forest Service Handbook 1109.12, Directive System, Chapter 30. This directive sets forth direction for providing public notice of and opportunity to comment on Forest Service directives. Specifically, this chapter provides direction for determining whether a directive requires public notice and opportunity for comment, procedures for providing public notice and opportunity to comment on directives, strategies for engaging the public in development of Forest Service directives, interagency and intergovernmental communication, including tribal consultation, consideration of public comments, and finalizing directives.

The comment period for the proposed directive began January 16, 2020, and closed March 16, 2020. The Forest Service received 10 comments on the proposed directive. The comments can be viewed at https://cara.ecosystem-management.org/Public/ReadingRoom?project=ORMS-2016. The directive was designated as significant by the Office of Management and Budget (OMB) and was reviewed by OMB prior to publication for public comment and issuance as a final directive. The final directive was issued April 15, 2021, and can be viewed at https://www.fs.fed.us/im/directives/fsh/1109.12/1109.12-ch30%20(216%20Directive)-final%20(004).docx.

3. Operation and Maintenance of Developed Recreation Sites, Forest Service Handbook 2309.13, Chapter 50. This directive establishes a new chapter and revised direction for Forest Service operation and maintenance of developed recreation sites in the Recreation Site Handbook. The new chapter contains direction that was previously set out in Forest Service Manual 2330 and new direction governing national quality standards for Forest Service operation and maintenance of developed recreation sites. The comment period for the directive began July 9, 2020 and ended August 10, 2020. The Forest Service received 5 comments, which can be viewed at https://cara.ecosystem-management.org/Public/ReadingRoom?project=ORMS-2572. The final directive was issued June 25, 2021, as amended, and can be viewed at https://www.fs.fed.us/im/directives/fsh/2309.13/wo%202309.13_50_FS%20OM%20of%20Developed%20Recreation%20Sites-PUP.docx.

Dated: July 7, 2021.
Amelia Steed,
Acting Deputy Director, Strategic Planning, Budget, & Accountability.

[FR Doc. 2021-14807 Filed 7-12-21; 8:45 am]

BILLING CODE 3411-15-P